DEPARTMENT OF TRANSPORTATION

Federal Highway Administration

Environmental Impact Statement: Little Cottonwood Canyon, Salt Lake County, Utah

AGENCY: Federal Highway Administration (FHWA), DOT.

ACTION: Revised Notice of Intent to Prepare an Environmental Impact Statement.

SUMMARY: FHWA on behalf of the Utah Department of Transportation (UDOT) published a Notice of Intent (NOI) in the Federal Register on March 9, 2018. FHWA on behalf of UDOT is issuing this notice to advise the public that UDOT intends to revise the scope of the analysis of the Little Cottonwood Canyon project based on new information collected from the public and agencies during the scoping process and development of the project need.

FOR FURTHER INFORMATION CONTACT: Brandon Weston, Environmental Services Director, UDOT—Environmental Services Division, 4501 South 2700 West, P.O. Box 141265, Salt Lake City, Utah 84114-1265; Telephone: (801) 965-4603; Email: brandonweston@utah.gov. John Thomas, PE, Little Cottonwood Canyon Project Manager, UDOT Region 2, 2010 South 2760 West, Salt Lake City, Utah 84104-4592; Telephone: (801) 550-2248; Email: johnthomas@utah.gov.

SUPPLEMENTARY INFORMATION: The environmental review, consultation, and other actions required by applicable federal environmental laws for this project are being or have been carried out by UDOT pursuant to 23 U.S.C. 327 and a Memorandum of Understanding dated January 17, 2017, and executed by FHWA and UDOT.

On March 9, 2018, at FR Vol. 83, No. 47, page 10545, FHWA on behalf of UDOT issued a NOI for UDOT, as the lead agency under the National Environmental Policy Act (NEPA), to prepare an Environmental Impact Statement (EIS) for proposed improvements to SR-210, a two-lane roadway, in Little Cottonwood Canyon in Salt Lake County, Utah. The proposed project study area in the NOI extended from the intersection of SR-210 and SR-190/Fort Union Boulevard in Cottonwood Heights, Utah to the terminus of SR-210 in the town of Alta, Utah. The extent of the project study area has not changed with this revised NOI.

As part of the release of the NOI and the EIS process, UDOT invited public and agency comments during a scoping period from March 9 to May 4, 2018, which included a public scoping meeting on April 10, 2018. During the scoping period UDOT gathered information about the public and agency concerns and began development of the EIS by defining the purpose of and need for improvements to SR-210. After reviewing scoping comments and the need for the project, UDOT has revised the scope of the EIS to focus on the following: (1) Taking no action; (2) one or more alternatives involving multiple, combined actions, including:

• Transportation System Management (TSM);

• Enhancing safety and improving winter time mobility through avalanche mitigation;

• Enhancing safety, access, and mobility in the area through improved designated parking areas at existing U.S. Department of Agriculture (USDA) Forest Service trailheads; and

• Roadway improvements to SR-210 on Wasatch Boulevard from SR-190/Fort Union Boulevard to North Little Cottonwood Canyon Road; and (3) other alternatives if identified during the EIS process. Alternatives that do not meet the project purpose and need or that are otherwise not reasonable will not be carried forward for detailed consideration.

The project may require FHWA to appropriate National Forest System lands and transfer such lands to UDOT for highway use, pursuant to authority under 23 U.S.C. 317. The project may also require approvals by the USDA Forest Service, the U.S. Army Corps of Engineers, and/or other agencies. The USDA Forest Service, the U.S. Army Corps of Engineers, the U.S. Environmental Protection Agency, Utah Transit Authority, and Salt Lake City Department of Public Utilities have accepted UDOT's invitation to be cooperating agencies under the March 9, 2018 NOI and are expected to continue in this role with the revised scope.

Letters describing the revised scope and soliciting comments will be sent to appropriate Federal, state, and local agencies as well as to Native American tribes and to private organizations and citizens who have previously expressed, or who are known to have, an interest in this proposal. UDOT will hold a public scoping meeting on April 9, 2019 from 4:00 p.m. to 8:00 p.m. at Cottonwood Heights City Hall, 2277 East Bengal Boulevard, Cottonwood Heights, Utah 84121 to provide information on the revised scope and to seek additional public and agency input. Public notices announcing the meeting will be published in the region. Information regarding this meeting and the project may also be obtained through a public website maintained by UDOT at www.udot.utah.gov/littlecottonwoodeis.

During the NEPA process, other public meetings will be held as appropriate to allow the public, as well as Federal, state, and local agencies, and tribes, to provide comments on the purpose of and need for the project, potential alternatives, and social, economic, and environmental issues of concern.

In addition, a public hearing will be held following the release of the Draft EIS. Public notice advertisements and direct mailings will notify interested parties of the time and place of the public meetings and the public hearing. The Draft EIS will be available for public and agency review and comment prior to the public hearing.

To ensure that the full range of issues related to this proposed action is addressed and all significant issues are identified, comments and suggestions are invited from all interested parties. Written comments or questions concerning this proposed action and the EIS should be directed to UDOT representatives at the mail or email addresses provided above by May 3, 2019. For additional information please visit the project website at www.udot.utah.gov/littlecottonwoodeis. Information requests or comments can also be provided by email to littlecottonwoodeis@utah.gov.

(Catalog of Federal and Domestic Assistance Program Number 20.205, Highway Research, Planning and Construction. The regulations implementing Executive Order 12372 regarding intergovernmental consultation on Federal programs and activities apply to this program.)

Issued on: February 27, 2019.
Ivan Marrero,
Division Administrator, Federal Highway Administration, Salt Lake City, Utah.

[FR Doc. 2019-03957 Filed 3-4-19; 8:45 am]

BILLING CODE 4910-22-P